DEPARTMENT OF HEALTH AND HUMAN SERVICES

Administration for Children and Families

Notice for October 2006 Advisory Committee Meeting

AGENCY: Office of Planning, Research and Evaluation, Administration for Children and Families, Department of Health and Human Services.

ACTION: Notice of meeting; Advisory Committee on Head Start Accountability and Educational Performance Measures.

SUMMARY: The Secretary of Health and Human Services, by authority of 42 U.S.C. 9836A, section 641A(b) of the Head Start Act, as amended (5 U.S.C. Appendix 2), has formed the Advisory Committee on Head Start Accountability and Educational Performance Measures (the Committee). The Committee is governed by the provisions of Public Law 92-463, as amended (5 U.S.C. Appendix 2).

The function of the Committee is to help assess the progress of HHS in developing and implementing educational measures in the Head Start Program. This includes the Head Start National Reporting System (NRS). The Committee is to provide recommendations for integrating NRS with other ongoing assessments of the effectiveness of the program. The Committee will make recommendations as to how NRS and other assessment data can be included in the broader Head Start measurement efforts found in the Family and Child Experiences Survey (FACES), the National Head Start Impact Study, Head Start's Performance-Based Outcome System, and the ongoing evaluation of the Early Head Start program.

DATES: October 27, 2006, 8:30 a.m.-5 p.m.

Place: The Westin Embassy Row Hotel, 2100 Massachusetts Avenue, NW., Washington, DC 20008.

Agenda: The Committee will continue the discussions begun at previous Committee meetings.

SUPPLEMENTARY INFORMATION: This, the fourth meeting of the Committee, is open to the public. Persons wishing to bring written statements or papers focused on relevant, existing research with Head Start populations or on measures appropriate for low-income four- and five-year old children are welcome to do so. Individuals may e-mail such documents to Secretaryadvisory-hs@esi-dc.com or mail to: ESI, ATTN: Townley Knudson, Head Start Secretary's Advisory Committee, 1150 Connecticut Avenue, NW., Suite 1100, Washington, DC 20036.

Documents received shall be presented to the Committee. The Committee meeting records shall be kept at the Aerospace Center located at 901 D Street, SW., Washington, DC 20447. The Committee's charter, past meeting agendas, meeting proceedings and materials related to this meeting can be found at: http://www.acf.hhs.gov/programs/hsb/budget/AdvCmteSep05/index.htm.

An interpreter for the deaf and hard-of-hearing, will be available upon advance request by contacting Secretaryadvisory-hs@esi-dc.com.

Due to a clerical error at the Administration for Children and Families, this meeting notice may be published less than 15 days prior to the meeting.

Dated: October 10, 2006.
Robert A. Sargis,
Reports Clearance Officer.

[FR Doc. 06-8671 Filed 10-13-06; 8:45 am]

BILLING CODE 4184-01-M